DEPARTMENT OF HOUSING AND URBAN DEVELOPMENT

[Docket No. FR-5750-N-24]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Ms. Theresa M. Ritta, Chief Real Property Branch, the Department of Health and Human Services, Room 5B-17, Parklawn Building, 5600 Fishers Lane, Rockville, MD 20857, (301)-443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street SW., Room 300, Washington, DC 20024, (202)-720-8873; GSA: Mr. Flavio Peres, General Services Administration, Office of Real Property Utilization and Disposal, 1800 F Street NW., Room 7040, Washington, DC 20405, (202) 501-0084; Navy: Mr. Steve Matteo, Department of the Navy, Asset Management Division, Naval Facilities Engineering Command, Washington Navy Yard, 1330 Patterson Ave. SW., Suite 1000, Washington, DC 20374; (202) 685-9426 (These are not toll-free numbers).

Dated: June 5, 2014.
Brian P. Fitzmaurice,
Director, Division of Community Assistance, Office of Special Needs Assistance Programs.

TITLE V, FEDERAL SURPLUS PROPERTY PROGRAM, FEDERAL REGISTER REPORT FOR 06/13/2014

Suitable/Available Properties

Building

Maryland

D70

NSF Indian Head

4121 N. Jackson Rd.

Indian Head MD 20640

Landholding Agency: Navy

Property Number: 77201420016

Status: Unutilized

Comments: off-site removal only; no future agency need; 8,319 sq. ft.; semi-permanent; office; 132+ months vacant; poor conditions; secured area; contact Navy for more info. on accessibility & removal requirements.

Michigan

Natl Weather Svc Ofc

214 West 14th Ave.

Sault Ste. Marie MI

Landholding Agency: GSA

Property Number: 54200120010

Status: Excess

GSA Number: 1-C-MI-802

Comments: 2,230 sq. ft., presence of asbestos, most recent use—office.

New York

Former SSG Robert H. Dietz

US Army Reserve Center

114 Flatbush Ave.

Kingston NY 12401

Landholding Agency: GSA

Property Number: 54201410010

Status: Excess

GSA Number: 1-D-NY-0970-AA

Directions: Landholding Agency: Army; Disposal: GSA; office/admin. bldg. (11,962 sq. ft.); org. maint. bldg. (2,572 sq. ft.); heat/storage bldg. (2,645 sq. ft.)

Comments: 16,909 total sq. ft.; vacant since 2012; fair conditions; access by appt. only; contact GSA for more information.

Wisconsin

Deer Farm Guest Cabin

Canthood Lake

Iron River WI

Landholding Agency: Agriculture

Property Number: 15201420018

Status: Excess

Comments: off-site removal; removal maybe extremely difficult due to dilapidating conditions; high presence of mold; severe water damage; contact Agriculture for more information.

Land

West Virginia

Appalachian Farming System

Research Ctr. Reba Plumley Farm

898 Country Rte. 27

Shady Springs WV 25918

Landholding Agency: GSA

Property Number: 54201340005

Status: Excess

GSA Number: 4-A-WV-559AB

Directions: Landholding Agency—US Forest Service Disposal Agency—GSA

Comments: 126.6 acres; agricultural/research; Sec. 106 Nat'l Historic review required to transfer out of federal ownership; contact GSA for more info.

Wisconsin

TACAN Annex

6400 Block of Lake Rd.

Windsor WI 53598

Landholding Agency: GSA

Property Number: 54201320005

Status: Excess

GSA Number: 1-D-WI-611

Comments: 1 acre; moderate conditions.

Suitable/Unavailable Properties

Building

Alabama

Anniston SSA Building

301 E. 13th St.

Anniston AL 36207

Landholding Agency: GSA

Property Number: 54201330002

Status: Excess

GSA Number: 4-G-AL-0790AA

Comments: 12,257 sf.; 11,927 rentable sf.; 59 parking spaces; office; 9+ months vacant; good conditions; contact GSA for more info.

California

Los Banos Field Office

745 West J Street

Los Banos CA 93635

Landholding Agency: GSA

Property Number: 54201340006

Status: Surplus

GSA Number: 9-I-CA-0450-AC-3

Directions: (Landholding-Agric.; Disposal & GSA) 2 Bldgs. 5,375 sq.; bldgs. sits on 0.41 acres

Comments: Significant fire damage to Admin. bldg.; bathroom; major repairs required; contamination; asbestos; contact GSA for more info.

Maryland

Appraisers Store

Baltimore MD 21202

Landholding Agency: GSA

Property Number: 54201030016

Status: Excess

GSA Number: 4-G-MD-0623

Comments: Redetermination: 169,801 sq. ft., most recent use—federal offices, listed in the Natl Register of Historic Places, use restrictions.

Minnesota

Noyes Land Port of Entry

SW Side of US Rte. 75

Noyes MN 56740

Landholding Agency: GSA

Property Number: 54201230007

Status: Excess

GSA Number: 1-G-MN-0593

Directions: one main bldg.; one storage; approx. 16,000 and 900 sf. respectively

Comments: sits on 2.29 acres; approx. 17,000 sf. total of bldg. space; office/governmental.

Montana

Huntley Townsite Tract 127

Near Hwy 522

Huntley MT 59037

Landholding Agency: GSA

Property Number: 54201410006

Status: Surplus

GSA Number: 7-I-MT-0633-AB

Directions: disposal Agency: GSA; Landholding Agency: Interior

Comments: sits on 2.37 acres; contact GSA for more information.

Nevada

Alan Bible Federal Bldg.

600 S. Las Vegas Blvd.

Las Vegas NV 89101

Landholding Agency: GSA

Property Number: 54201210009

Status: Excess

GSA Number: 9-G-NV-565

Comments: 81,247 sf.; current use: federal bldg.; extensive structural issues; needs major repairs; contact GSA for further details.

2 Buildings

Military Circle

Tonopah NV

Landholding Agency: GSA

Property Number: 54201240012

Status: Surplus

GSA Number: 9-I-NV-514-AK

Directions: bldg. 102: 2,508 sf.; bldg. 103: 2,880 sf.

Comments: total sf. for both bldgs. 5,388; Admin.; vacant since 1998; sits on 0.747 acres; fair conditions; lead/asbestos present.

New Jersey

Former SSA Trust Fund Bldg.

396 Bloomfield Ave.

Montclair NJ 07042

Landholding Agency: GSA

Property Number: 54201310004

Status: Surplus

GSA Number: 1-G-NJ-0676

Comments: 7,183 sf.; office; vacant since March 2012.

Portion of former Sievers-Sandberg US Army Reserves Center (Camp Pedric

Artillery Ave at Garrison St.

Oldmans NJ 08067

Landholding Agency: GSA

Property Number: 54201320003

Status: Surplus

GSA Number: 1-D-NJ-0662-AB

Directions: On the north side of Rte. 130, between Perkintown Road (Rte. 644) and Pennsgove-Pedricktown Rd (Rte. 642)

Comments: #171; mess hall bldg. #173; 14,282 total sf.; fair/poor conditions; asbestos/lead-based paint; potential legal constraints in accessing property; Contact GSA for more info.

Portion of Former Sievers-Sandberg US Army Reserves Center—Tract 1

NW Side of Artillery Ave. at Rte. 130

Oldmans NJ 08067

Landholding Agency: GSA

Property Number: 54201320015

Status: Surplus

GSA Number: 1-D-NJ-0662-AA

Directions: Previously reported under 54200740005 as suitable/available; 16 bldgs. usage varies: barracks/med./warehouses/garages; property is being parcelized

Comments: 87,011 sf.; 10+ yrs. vacant fair/poor conditions; property may be landlocked; transferee may need to request access from Oldmans Township planning & zoning comm.; contact GSA for more info.

New York

Building 606

1 Amsterdam Rd.

Scotia NY 12301

Landholding Agency: GSA

Property Number: 54201310009

Status: Surplus

GSA Number: NY-0975

Directions: previously reported by Navy w/assigned property number 7720120019

Comments: 137,409 sf.; Navy Exchange, supermarket, & storage; 24 mons. vacant; mold, asbestos, & lead-based paint, significant renovations needed.

Former Leso-Leano US Army

Reserve Center

500 Massey St. South

Watertown NY 13601

Landholding Agency: GSA

Property Number: 54201320004

Status: Surplus

GSA Number: 1-D-NY-0698

Directions: On Massey St So, corner of Pine St and Ten Eyck St W.

Comments: off/admin. bldg. = 25,025 sf; oper./veh. maint. bldg. = 2,400 sf.; asbestos/lead-based paint; bldgs. locked—entry by appt. with GSA; contact GSA for more info.

Portion of GSA Binghamton

“Hillcrest” Depot—Tract 2

1151 Hoyt Avenue

Fenton NY 13901

Landholding Agency: GSA

Property Number: 54201320008

Status: Surplus

GSA Number: 1-G-NY0670-AD

Directions: Previously report on March 24, 2006 under 5420010016; include 40 acres of land w/5 buildings

Comments: warehouses: ranges 129,000-200,249 total sf; old admin. bldg.: 42,890 sf; pump house: 166.5 sf; fair to very poor conditions; contact GSA for more info.

Portion of GSA Binghamton

“Hillcrest” Depot—Tract 1

1151 Hoyt Ave.

Fenton NY 13901

Landholding Agency: GSA

Property Number: 54201320017

Status: Surplus

GSA Number: 1-G-NY0670-AC

Directions: Previously reported on March 24, 2006 under 54200610016; this property includes 40 acres of land w/6 structures; property is being parcelized

Comments: warehouses range from approx. 16,347 sf.-172,830 sf.; admin. bldg. approx. 5,700 sf; guard house & butler bldg. sf. is unknown; 10 vacant; fair conditions; bldgs. locked; entry by appt. w/GSA.

Former TSG Harold Lockwood US

Army Reserves Center

111 Finney Boulevard

Malone NY 12953

Landholding Agency: GSA

Property Number: 54201340007

Status: Excess

GSA Number: 1-D-NY-0966-AA

Comments: 29960 Sq. Ft.: office/administrative/garage; sits on 4.82+/−acres; age 1961-1983; entry by appointment with USAR/GSA; asbestos and lead based paint; contact GSA for more information.

North Carolina

Greenville Site

10000 Cherry Run Rd.

Greenville NC 27834

Landholding Agency: GSA

Property Number: 54201210002

Status: Surplus

GSA Number: 4-2-NC-0753

Comments: 49,300 sq. ft.; current use: transmitter bldg.; possible PCB contamination; not available—existing Federal need.

Greenville Site A Transmitting

Station

1000 Cherry Run Rd.

Greenville NC 27834

Landholding Agency: GSA

Property Number: 54201410008

Status: Excess

GSA Number: 4-Z-NC-0753

Directions: Landholding Agency: Broadcasting Board of Governors; Disposal: GSA; previously reported under 54201210002

Comments: main bldg. 54,318 sq. ft.; 40 transmitter antennas & 160 towers on the site; 12+ months vacant; fair conditions; asbestos/lead-based paint; environ. conditions; contact GSA for more info.

North Dakota

Bismarck Tower

Bureau of Reclamation

Bismarck ND 58501

Landholding Agency: GSA

Property Number: 54201410005

Status: Surplus

GSA Number: 7-I-ND-0520-AA

Directions: Disposal Agency: GSA; Landholding Agency: Interior

Comments: antenna tower; repairs needed; contact GSA for more information.

Ohio

LTC Dwite Schaffner

U.S. Army Reserve Center

1011 Gorge Blvd.

Akron OH 44310

Landholding Agency: GSA

Property Number: 54201120006

Status: Excess

GSA Number: 1-D-OH-836

Comments: 25,039 sq. ft., most recent use: Office; in good condition.

Glenn Research Center

6100 Columbus Ave.

Sandusky OH 44870

Landholding Agency: GSA

Property Number: 54201410002

Status: Excess

GSA Number: 1-Z-OH-0598-AB

Directions: Disposal Agency: GSA; Landholding Agency: NASA

Comments: 6,424 sq. ft.; 20+ months vacant; repairs needed; contact GSA for more info.

Oregon

3 Bldgs./Land

OTHR-B Radar

Cty Rd 514

Christmas Valley OR 97641

Landholding Agency: GSA

Property Number: 54200840003

Status: Excess

GSA Number: 9-D-OR-0768

Comments: 14000 sq. ft. each/2,626 acres, most recent use—radar site, right-of-way.

South Carolina

Former US Vegetable Lab

2875 Savannah Hwy

Charleston SC 29414

Landholding Agency: GSA

Property Number: 54201310001

Status: Excess

GSA Number: 4-A-SC-0609AA

Directions: head house w/3 greenhouses, storage bins

Comments: 6,400 sf.; lab; 11 yrs. vacant; w/in 100 yr. floodplain/floodway; however is contained; asbestos & lead based paint.

Texas

Former Navy & Marine Corps Res

5301 Ave. South

Galveston TX 77551

Landholding Agency: GSA

Property Number: 54201240013

Status: Surplus

GSA Number: 7-D-TX-0549-9

Comments: 17,319 sf.; sits on 2.63 acres; Admin. office; fair conditions; eligible for Nat'l Register Historic Places; asbestos; access by appt. w/USACE.

Virginia

Building 641

216 Hunting Ave.

Hampton VA 23681

Landholding Agency: GSA

Property Number: 54201320006

Status: Excess

GSA Number: 4-Z-VA-0602-A1

Comments: 11,671 total sf.; office; fair/moderate conditions; existing Federal need.

Washington

Old Bellingham Border Patrol Station

2745 McLeod Rd.

Bellingham WA 98225

Landholding Agency: GSA

Property Number: 54201310011

Status: Excess

GSA Number: 9-Z-WA-1264

Directions: two buildings, an office & garage/storage facility; totaling approx. 4,320 sf.

Comments: 12 months vacant; good conditions.

712 Records Center Printing &

Repro Plant 712B IRM

940 Northgate Dr.

Richland WA 99352

Landholding Agency: GSA

Property Number: 54201320025

Status: Excess

GSA Number: 9-B-WA-1268

Directions: Property is improved w/2 contiguous bldgs., totaling approx. 22, 714 sf.; Disposal: GSA, Landholding: Energy

Comments: 22,714 sf.; storage; moderate conditions; 60+ months vacant; asbestos & lead.

Former Seattle Branch of the

Federal Reserve Bank

1015 Second Ave.

Seattle WA 98104

Landholding Agency: GSA

Property Number: 54201340001

Status: Excess

GSA Number: 9-G-WA-1259

Directions: previously reported as suitable/unavailable under 54201220007

Comments: 85,873 sq. ft.; 67+ months vacant; extensive repairs/remediation needed to occupy; asbestos/lead; historic property; any renov. will need prior approval; contact GSA for more info.

West Virginia

Appalachian Farming System

Research Ctr. Main Lab

1224 Airport Rd.

Beaver WV 25813

Landholding Agency: GSA

Property Number: 54201340002

Status: Excess

GSA Number: 4-A-WV-559AA

Directions: Landholding Agency—U.S. Forest Service Disposal Agency—GSA

Comments: 4 buildings totaling 44,052 sq. ft.; USDA research facility; 12 = months vacant; good condition; some water damage; contact GSA for more info. on a specific property.

Wisconsin

Wausau Army Reserve Ctr.

1300 Sherman St.

Wausau WI 54401

Landholding Agency: GSA

Property Number: 54201210004

Status: Excess

GSA Number: 1-D-WI-610

Comments: bldg. 12,680 sq. ft.; garage 2,676 sq. ft.; current use: vacant; possible asbestos; remediation may be required; subjected to existing easements; Contact GSA for more detail.

Land

Alabama

(Former) Huntsville

International Airport (HSV) Outer Market

1390 Browns Ferry Road

Madison AL 35758

Landholding Agency: GSA

Property Number: 54201340008

Status: Excess

GSA Number: 4-U-AL-0787AA

Comments: 0.6 acres; outer marker; property can be accessed from Browns Ferry Road; contact GSA for more information.

California

Seal Beach RR Right of Way

East 17th Street

Seal Beach CA 90740

Landholding Agency: GSA

Property Number: 54201140016

Status: Surplus

GSA Number: 9-N-CA-1508-AB

Comments: 9,713.88 sq. ft.; current use: private home.

Seal Beach RR Right of Way

East of 16th Street

Seal Beach CA 90740

Landholding Agency: GSA

Property Number: 54201140017

Status: Surplus

GSA Number: 9-N-CA-1508-AG

Comments: 6,834.56 sq. ft.; current use: vacant.

Seal Beach RR Right of Way

West of Seal Beach Blvd.

Seal Beach CA 90740

Landholding Agency: GSA

Property Number: 54201140018

Status: Surplus

GSA Number: 9-N-CA-1508-AA

Comments: 10,493.60 sq. ft.; current use: vacant lot.

Seal Beach RR Right of Way

Seal Beach

Seal Beach CA 90740

Landholding Agency: GSA

Property Number: 54201210006

Status: Surplus

GSA Number: 9-N-CA-1508-AH

Comments: 4,721.90 sf.; current use: vacant lot between residential bldg.

Seal Beach RR Right of Way

Seal Beach

Seal Beach CA 90740

Landholding Agency: GSA

Property Number: 54201210007

Status: Surplus

GSA Number: 9-N-CA-1508-AJ

Comments: 6,028.70 sf.; current use: vacant lot between residential bldgs.

Delano Transmitting Station

1105 Melcher Rd.

Delano CA 93215

Landholding Agency: GSA

Property Number: 54201330005

Status: Excess

GSA Number: 9-X-CA-1671

Directions: Landholding Agency: Broadcasting Board of Governors Disposal Agency: GSA

Comments: 800 acres; mostly land and some bldgs.; unavailable due to Federal interest; transmitting station; vacant since 2007; access can be gain by appt. only; contact GSA for more info.

Illinois

Three Contiguous Vacant Lots

5139 S. Mason Ave.

Chicago IL

Landholding Agency: GSA

Property Number: 54201320021

Status: Surplus

GSA Number: 1-U-IL-803

Directions: Disposal Agency: GSA; Landholding Agency: FAA

Comments: 0.65 acres; lots located w/in locked fence; contact GSA for more info.

Kansas

1.64 Acres

Wichita Automated Flight Service

Anthony KS 67003

Landholding Agency: GSA

Property Number: 54201230002

Status: Surplus

GSA Number: 7-U-KS-0526

Comments: agricultural surroundings; remedial action has been taken for asbestos removal.

Kentucky

Little Hurricane Island Access

Tract No. 819 & 816E, Newburgh

Locks & Dams

Owensboro KY 42301

Landholding Agency: GSA

Property Number: 54201320024

Status: Excess

GSA Number: 4-D-KY-0629

Directions: Disposal: GSA; Landholding: COE

Comments: 20.87 acres; boat ramp.

Massachusetts

FAA Site

Massasoit Bridge Rd.

Nantucket MA 02554

Landholding Agency: GSA

Property Number: 54200830026

Status: Surplus

GSA Number: MA-0895

Comments: approx. 92 acres, entire parcel within MA Division of Fisheries & Wildlife Natural Heritage & Endangered Species Program.

Montana

Turner Lots 7-12

Park Street

Turner MT 59542

Landholding Agency: GSA

Property Number: 54201410003

Status: Excess

GSA Number: 7-G-MT-0635

Comments: .96 aces; vacant; undeveloped; contact GSA for more information.

New York

FAA Radio Communication Link

Adjacent to Babcock Road

Coleville NY 13787

Landholding Agency: GSA

Property Number: 54201330001

Status: Surplus

GSA Number: 1-NY-0977-AA

Comments: 6.03 acres; contact GSA for more info.

Radio Communication Link

Repeater Site

5979 Wagner Hill Rd.

Wheeler NY 14809

Landholding Agency: GSA

Property Number: 54201330004

Status: Excess

GSA Number: 1-NY-0981-AA

Directions: Landholding Agency: FAA; Disposal Agency: GSA

Comments: 7.473 acres; Contact GSA for more info.

South Carolina

Marine Corps Reserve Training Center

2517 Vector Ave.

Goose Creek SC 29406

Landholding Agency: GSA

Property Number: 54201410009

Status: Excess

GSA Number: 4-N-SC-0630-AA

Directions: Landholding Agency: Navy; Disposal Agency: GSA

Comments: 5.59 acres; contact GSA for more information.

South Dakota

Burke Radio Tower Site

290 St.

Burke SD 57523

Landholding Agency: GSA

Property Number: 54201410004

Status: Excess

GSA Number: 7-D-SD-0540

Directions: Disposal: GSA; Landholding: COE

Comments: 2.48 acres; vacant; contact GSA for more information.

West Virginia

Appalachian Farming System

Research Ctr. Peters Farms

227 Peters Ct.

Cool Ridge WV 25825

Landholding Agency: GSA

Property Number: 54201340003

Status: Excess

GSA Number: 4-A-WV-559AD

Directions: Landholding Agency- US Forest Service

Disposal Agency- GSA

Comments: 53.6 acres; agricultural/research; possible wetlands near property; contact GSA for more info.

Appalachian Farming System

Research School House Farm

4362 Pluto Rd.

Shady Springs WV 25918

Landholding Agency: GSA

Property Number: 54201340004

Status: Excess

GSA Number: 4-A-WV-559AC

Directions: Landholding Agency- US Forest Service

Disposal Agency- GSA

Comments: 54.8 acres; agricultural/research; Sec. 106 Nat'l Historic review required to transfer out of federal ownership; contact GSA for more info.

[FR Doc. 2014-13659 Filed 6-12-14; 8:45 am]

BILLING CODE 4210-67-P